DEPARTMENT OF JUSTICE

Notice of Lodging of Consent Decree Under the Comprehensive Environmental Response, Compensation, and Liability Act

Notice is hereby given that on September 23, 2011, a proposed Consent Decree in United States v. TRAC Enterprises, LLC, Civil Action No. 2:11-cv-00652, was lodged with the United States District Court for the Southern District of West Virginia.

In this cost recovery action, brought pursuant to Section 107 of the Comprehensive Environmental Response, Compensation, and Liability Act of 1980, as amended (“CERCLA”), 42 U.S.C. 9607, the United States, on behalf of the Administrator of the United States Environmental Protection Agency (“EPA”), sought reimbursement of costs incurred by EPA for response actions taken at or in connection with the release or threatened release of hazardous substances at the Custom Plating and Polishing Site (“the Site”) in Dunbar, Kanawha County, West Virginia.

The complaint alleged that EPA conducted an emergency removal action at the Site to address chemicals and wastes used in and generated by the electroplating and metal refinishing business that were found at the Site, including “hazardous substances” within the meaning of Section 101(14) of CERCLA, 42 U.S.C. 9601(14).

Under the proposed Consent Decree, TRAC Enterprises, LLC, the owner of the Site, will pay a total of $72,000 to the Hazardous Substance Superfund, in reimbursement of EPA's past response costs incurred through the date of entry of the Consent Decree. This amount was determined based on an analysis of TRAC Enterprise's ability to pay.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. TRAC Enterprises, LLC, Civil Action No. 2:11-cv-00652, D.J. Reference Number 90-11-3-09958.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $6.00 (25 cents per page reproduction cost for 24 pages) payable to the U.S. Treasury or, if requesting by email or fax, forward a check in that amount to the Consent Decree Library at the address given above.

Robert D. Brook,
Assistant Chief, Environmental Enforcement Section, Environment and Natural Resources Division.

[FR Doc. 2011-25041 Filed 9-28-11; 8:45 am]

BILLING CODE 4410-15-P